DEPARTMENT OF THE INTERIOR

Bureau of Land Management

Notice of Realty Action, Recreation and Public Purposes (R&PP) Act Classification

AGENCY: Bureau of Land Management, Department of the Interior.

ACTION: Notice of Realty Action, Recreation and Public Purposes (R&PP) Act Classification, UTU-78912.

SUMMARY: The following public land in Garfield County, Utah has been examined and found suitable for classification for conveyance under the provisions of the R&PP Amendment Act of 1988 (Pub. L. 100-648): Salt Lake Meridian, Utah, T. 35 South, R. 5 West, Section 5, S½SW¼SE¼, S½SE¼SW¼, and Section 9, N½NW¼NW¼, N½NE¼NW¼ containing 80 Acres. Garfield County intends to use the land for a public shooting range. The land is not needed for a Federal purpose. Conveyance is consistent with current Bureau of Land Management land use planning and would be in the public interest.

DATES: On or before November 20, 2000, interested parties may submit comments regarding the proposed classification. In the absence of adverse comments, the classification will become effective December 4, 2000.

ADDRESSES: For further information, contact the Field Manager, Kanab Field Office, Bureau of Land Management, 318 North 100 East, Kanab, Utah 84741, 435-644-4600. Comments should be submitted to the same address.

SUPPLEMENTARY INFORMATION: The patent, when issued, will be subject to the following terms, conditions and reservations:

1. Provisions of the R&PP Act and to all applicable regulations of the Secretary of the Interior.

2. All minerals shall be reserved to the United States, together with the right to prospect for, mine, and remove the minerals.

3. A right-of-way for ditches and canals constructed by authority of the United States (Act of August 30, 1890, 26 Stat. 391; 43 U.S.C. 945).

4. Those rights for power transmission line purposes granted by right-of-way # SL 052370.

5. All other valid existing rights.

6. The (patentee), its successors or assigns, assumes all liability for and shall defend, indemnify, and save harmless the United States and its officers, agents, representatives, and employees (hereinafter referred to in this clause as the United States), from all claims, loss, damage, actions, causes of action, expense, and liability (hereinafter referred to in this clause as claims) resulting from, brought for, or on account of, any personal injury, threat of personal injury, or property damage received or sustained by any person or persons (including the patentee's employees) or property growing out of, occurring, or attributable directly or indirectly, to the disposal of solid waste on, or the release of hazardous substances from the above described public land, regardless of whether such claims shall be attributable to: (1) the concurrent, contributory, or partial fault, failure, or negligence of the United States, or (2) the sole fault, failure, or negligence of the United States.

7. Title shall revert to the United States upon a finding, after notice and opportunity for a hearing, that the patentee has not substantially developed the lands in accordance with the approved plan of development on or before the date five years after the date of conveyance. No portion of the land shall under any circumstance revert to the United States if any such portion has been used for solid waste disposal or for any other purpose which may result in the disposal, placement, or release of any hazardous substance.

8. If, at any time, the patentee transfers to another party ownership of any portion of the land not used for the purpose(s) specified in the application and approved plan of development, the patentee shall pay the Bureau of Land Management the fair market value, as determined by the authorized officer, of the transferred portion as of the date of transfer, including the value of any improvements thereon.

Upon publication of this notice in the Federal Register the lands will be segregated from all forms of appropriation under public land laws, including the general mining laws, except for conveyance under the R&PP Act and leasing under the Mineral leasing laws.

Dated: September 26, 2000.
A. Jerry Meredith,
District Manager.

[FR Doc. 00-25431 Filed 10-3-00; 8:45 am]

BILLING CODE 4310-$$-M